DEPARTMENT OF HOMELAND SECURITY

[Docket No. DHS-2011-0021]

Agency Information Collection Activities: Submission for Review; Information Collection Request for the Department of Homeland Security (DHS), Science and Technology, CyberForensics Electronic Technology Clearinghouse (CyberFETCH) Program

AGENCY: Science and Technology Directorate, DHS.

ACTION: 30-day Notice and request for comment.

SUMMARY: The Department of Homeland Security (DHS), Science & Technology (S&T) Directorate invites the general public to comment on data collection forms for the CyberForensics Electronic Technology Clearinghouse (CyberFETCH) program. CyberFETCH is responsible for providing a collaborative environment for cyber forensics practitioners from law enforcement, private sector and academia. This clearinghouse will enable its users to share information, best practices and lessons learned within a secure collaborative environment. In order for a user to access this clearinghouse, he/she must complete a registration form to establish a user account. The information collected is used by the DHS S&T CyberFETCH program to determine the authenticity and suitability of the practitioner requesting access. Once approved, users will utilize the collaborative environment to upload documents/resources, exchange information, network with other users, as well as post blogs and comments.

The DHS invites interested persons to comment on the following form and instructions (hereinafter “Forms Package”) for the S&T CyberFETCH: (1) Request a CyberFETCH Account (DHS Form 10073). Interested persons may receive a copy of the Forms Package by contacting the DHS S&T PRA Coordinator. This notice and request for comments is required by the Paperwork Reduction Act of 1995 (Pub. L. 104-13, 44 U.S.C. chapter 35).

DATES: Comments are encouraged and will be accepted until May 25, 2011. ADDRESSES: Interested persons are invited to submit written comments on the proposed information collection to the Office of Information and Regulatory Affairs, Office of Management and Budget. Comments should be addressed to: Desk Officer for the Department of Homeland Security, Science and Technology Directorate, and sent via electronic mail to oira_submission@omb.eop.gov or faxed to (202) 395-6974. Please include docket number DHS-2011-0021 in the subject line of the message.

FOR FURTHER INFORMATION CONTACT: DHS S&T PRA Coordinator John Koran (202) 254-5676 (Not a toll free number).

SUPPLEMENTARY INFORMATION: The 60-day notice and request for comment was published in the Federal Register on February 11, 2011. No comments on the collection instruments were received. The information will be collected via the DHS S&T CyberFETCH secure Web site at http://www.cyberfetch.org/. The CyberFETCH Web site will only employ secure Web-based technology (i.e., electronic registration form) to collect information from users to both reduce the burden and increase the efficiency of this collection.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: New Information Collection.

(2) Title of the Form/Collection: Science and Technology, CyberForensics Electronic Technology Clearinghouse (CyberFETCH) program.

(3) Agency Form Number, if any, and the applicable component of the Department of Homeland Security sponsoring the collection: Department of Homeland Security, Science & Technology Directorate—(1) Request a CyberFETCH Account (DHS Form 10073).

(4) Affected public who will be asked or required to respond, as well as a brief abstract: Individuals, consisting of Federal, State and local law enforcement, private sector and academia practitioners. The information collected will be leveraged to determine the authenticity and suitability of the practitioner requesting access. Once approved, users will utilize the collaborative environment to upload documents/resources, exchange information, network with other users, as well as post blogs and comments.

(5) An estimate of the total number of respondents and the amount of time estimated for an average respondent to respond:

a. Estimate of the total number of respondents: 1000.

b. An estimate of the time for an average respondent to respond: .25 burden hours.

c. An estimate of the total public burden (in hours) associated with the collection: 250 burden hours.

Dated: April 8, 2011.
Tara O'Toole,
Under Secretary for Science and Technology.

[FR Doc. 2011-9933 Filed 4-22-11; 8:45 am]

BILLING CODE 9110-9F-P